NUCLEAR REGULATORY COMMISSION

10 CFR Part 72

[NRC-2014-0233]

RIN 3150-AJ47

List of Approved Spent Fuel Storage Casks: Holtec International HI-STORM 100 Cask System, Certificate of Compliance No. 1014, Amendment No. 8, Revision 1

AGENCY: Nuclear Regulatory Commission.

ACTION: Final rule.

SUMMARY: The U.S. Nuclear Regulatory Commission (NRC) is amending its spent fuel storage regulations by revising the Holtec International HI-STORM 100 Cask System listing within the “List of approved spent fuel storage casks” to add Revision 1 to Amendment No. 8 (effective May 2, 2012, as corrected on November 16, 2012), to the Certificate of Compliance (CoC) No. 1014. Amendment No. 8, Revision 1, changes burnup/cooling time limits for thimble plug devices, changes Metamic-HT material testing requirements, changes Metamic-HT material minimum guaranteed values, and updates fuel definitions to allow boiling water reactor fuel affected by certain corrosion mechanisms with specific guidelines to be classified as undamaged fuel.

DATES: This final rule is effective on February 16, 2016.

ADDRESSES: Please refer to Docket ID NRC-2014-0233 when contacting the NRC about the availability of information for this action. You may obtain publicly-available information related to this action by any of the following methods:

• Federal Rulemaking Web site: Go to http://www.regulations.gov and search for Docket ID NRC-2014-0233. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O-1F21, One White Flint North, 11555 Rockville Pike, Rockville, Maryland 20852.

FOR FURTHER INFORMATION CONTACT: Vanessa Cox, Office of Nuclear Material Safety and Safeguards, U.S. Nuclear Regulatory Commission, Washington, DC 20555-0001, telephone: 301-415-8342; email: Vanessa.Cox@nrc.gov.

SUPPLEMENTARY INFORMATION:

Table of Contents

I. Background

II. Discussion of Changes

III. Public Comment Analysis

IV. Voluntary Consensus Standards

V. Agreement State Compatibility

VI. Plain Writing

VII. Environmental Assessment and Finding of No Significant Environmental Impact

VIII. Paperwork Reduction Act Statement

IX. Regulatory Analysis

X. Regulatory Flexibility Certification

XI. Backfitting and Issue Finality

XII. Congressional Review Act

XIII. Availability of Documents

I. Background

Section 218(a) of the Nuclear Waste Policy Act (NWPA) of 1982, as amended, requires that “the Secretary [of the Department of Energy] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the NWPA states, in part, that “[the Commission] shall, by rule, establish procedures for the licensing of any technology approved by the Commission under Section 219(a) [sic: 218(a)] for use at the site of any civilian nuclear power reactor.”

To implement this mandate, the Commission approved dry storage of spent nuclear fuel (SNF) in NRC-approved casks under a general license by publishing a final rule in part 72 of Title 10 of the Code of Federal Regulations (10 CFR), which added a new subpart K within 10 CFR part 72 entitled, “General License for Storage of Spent Fuel at Power Reactor Sites” (55 FR 29181; July 18, 1990). This rule also established a new subpart L in 10 CFR part 72 entitled, “Approval of Spent Fuel Storage Casks,” which contains procedures and criteria for obtaining NRC approval of spent fuel storage cask designs. The NRC subsequently issued a final rule on May 1, 2000 (65 FR 25241), that approved the Holtec International HI-STORM 100 Cask System design and added it to the list of NRC-approved cask designs in 10 CFR 72.214 as CoC No. 1014.

The NRC published a direct final rule on this revision to this amendment in the Federal Register on February 5, 2015 (80 FR 6430). The NRC also concurrently published a companion proposed rule on February 5, 2015 (80 FR 6466). The NRC received at least one significant adverse comment on the proposed rule; therefore, the NRC withdrew the direct final rule on April 20, 2015 (80 FR 21639), and is proceeding, in this document, to address the comments on the proposed rule (see Section III, “Public Comment Analysis,” of this document).

II. Discussion of Changes

By letter dated August 21, 2013, and as supplemented on December 20, 2013, and February 28, 2014, Holtec International submitted a revision request for the Holtec International HI-STORM 100 Cask System, CoC No. 1014, Amendment No. 8. As a revision, the CoC will supersede the previous version of the CoC and Technical Specifications (TSs) that were effective May 2, 2012, as corrected on November 16, 2012, in their entirety. Amendment No. 8, Revision 1, changes burnup/cooling time limits for thimble plug devices, changes Metamic-HT material testing requirements, changes Metamic-HT material minimum guaranteed values, and updates fuel definitions to allow boiling water reactor fuel affected by certain corrosion mechanisms within specific guidelines to be classified as undamaged fuel.

As documented in the safety evaluation report (SER), the NRC staff performed a detailed safety evaluation of the proposed CoC amendment request. There are no significant changes to cask design requirements in the proposed CoC amendment. Considering the specific design requirements for each accident condition, the design of the cask would prevent loss of containment, shielding, and criticality control. If there is no loss of containment, shielding, or criticality control, the environmental impacts would not be significant. This revision does not reflect a significant change in design or fabrication of the cask. In addition, any resulting occupational exposure or offsite dose rates from the implementation of Amendment No. 8, Revision 1, would remain well within the 10 CFR part 20 limits. Therefore, the proposed CoC changes will not result in any radiological or non-radiological environmental impacts that significantly differ from the environmental impacts evaluated in the environmental assessment supporting the July 18, 1990, final rule. There will be no significant change in the types or amounts of any effluent released, no significant increase in individual or cumulative radiation exposure and no significant increase in the potential for or consequences of radiological accidents.

This final rule revises the Holtec International HI-STORM 100 Cask System listing in 10 CFR 72.214 by adding Amendment No. 8, Revision 1, to CoC No. 1014. The revision consists of the changes previously described, as set forth in the revised CoC and TSs. The revised TSs are identified in the SER. The revised Holtec International HI-STORM 100 Cask System design, when used under the conditions specified in the CoC, the TSs, and the NRC's regulations, will meet the requirements of 10 CFR part 72; therefore, adequate protection of public health and safety will continue to be ensured. When this final rule becomes effective, persons who hold a general license under 10 CFR 72.210 may load SNF into the Holtec International HI-STORM 100 Cask Systems that meets the criteria of Amendment No. 8, Revision 1, to CoC No. 1014 under 10 CFR 72.212.

III. Public Comment Analysis

The NRC received 16 comments from private citizens on the companion proposed rule to the direct final rule published on February 5, 2015. The NRC has not made any changes to the TSs or SER as a result of the public comments that the NRC has received. The NRC has, however, extended the effective date of the CoC in response to a comment.

Summary of Comments

The NRC received 16 comments on the companion proposed rule, many raising multiple and overlapping issues. Because the NRC received at least one significant adverse comment on the proposed rule (raising issues that the NRC deemed serious enough to warrant a substantive response to clarify the record), the NRC withdrew the direct final rule and is responding to the comments here. Other comments were not considered to be significant adverse comments because, in most instances, they were beyond the scope of this rulemaking. Nonetheless, in addition to responding to the issues raised in the significant adverse comments, the NRC is also taking this opportunity to respond to some of the issues raised in the comments that are beyond the scope of this rulemaking in order to clarify information about the CoC rulemaking process related to the comments received. The comments are summarized by issue and the NRC's responses follow.

Issue 1—Storage of Spent Nuclear Fuel

Several comments objected to the storage of SNF at the Indian Point nuclear plant and its proximity to New York City, and other comments objected to the storage of SNF, at any location, without a final repository approved.

NRC Response

The concern of SNF storage at the Indian Point nuclear plant, as well as the concern regarding the need for a final repository, are generic in nature and are not applicable to the HI-STORM Cask System, Amendment No. 8, Revision 1. This rulemaking is limited to allowing persons who hold a general license under 10 CFR 72.210 to load SNF into the Holtec International HI-STORM 100 Cask Systems if doing so meets the criteria of Amendment No. 8, Revision 1, to CoC No. 1014 under 10 CFR 72.212.

Issue 2—Change in Definition

Some comments also questioned the NRC's approval that SNF with certain types of corrosion fit within the definition of undamaged fuel. Some comments indicated that there was no explanation for this change in the definition. Another comment identified the concern with the change in the definition of undamaged fuel, as well as concerns with a variety of issues surrounding the manufacturing and use of this Holtec CoC cask system.

NRC Response

The inclusion of certain types of SNF corrosion in the undamaged fuel definition was addressed in detail in the NRC staff's SER which was referenced in the direct final rule published on February 5, 2015 (80 FR 6430), as was the staff's basis for determining that this CoC, as revised, complies with the NRC's regulations in 10 CFR part 72 and therefore, the revision ensures adequate protection of public health and safety. While these comments oppose the rule, they do not raise relevant or specific issues that were not previously addressed or considered by the NRC staff.

Issue 3—Other Agencies

One comment questioned why the NRC did not include other agencies in its Environmental Assessment (EA).

NRC Response

As explained in the direct final rule published on February 5, 2015 (80 FR 6430), the NRC determined that “the proposed CoC changes will not result in any radiological or non-radiological environmental impacts that significantly differ from the environmental impacts evaluated in the environmental assessment supporting the July 18, 1990, final rule. There will be no significant change in the types or amounts of any effluent released, no significant increase in individual or cumulative radiation exposure and no significant increase in the potential for or consequences of radiological accidents.” Therefore, no consultation was deemed necessary.

Issue 4—Time Allowed for Comments

Several comments objected to the time allowed by the NRC to provide comments on the companion proposed rule.

NRC Response

These comments do not provide any specific adverse comments on the companion proposed rule. Instead the comments cite concerns with the process used to issue the certificates. The NRC has determined that the amount of time provided for the submission of comments on a rule of this nature is reasonable, and the comments provide no specific details that would result in a change to that determination.

Issue 5—Implementation Period

Although not commenting on the technical details of the rule, one commenter requested that the NRC consider a 180-day implementation period for the revision to HI-STORM 100 Cask System, Amendment No. 8, to allow general licensees time to incorporate any applicable administrative changes.

NRC Response

The NRC determined that this comment is significant and adverse as defined in Section II, “Procedural Background,” of the direct final rule, because the comment raises an issue serious enough to warrant a substantive response to clarify or complete the record.

A revision to a CoC amendment supersedes that specific amendment. Therefore, as the commenter indicates, any general licensee using the system authorized by this specific CoC amendment would have to update their records pursuant to 10 CFR 72.212(b)(5) to that of the revised system by the effective date of this revision.

At the time the application was submitted, according to the applicant, no casks subject to the amendment had been manufactured, and therefore, this was not an issue. However, as of February 5, 2015, upon publication of the direct final rule, several canisters manufactured under CoC No. 1014, Amendment No. 8 have been purchased and delivered to Exelon Generation Company, LLC (Exelon Generation), at its Dresden Nuclear Power Plant.

Given this change in circumstance, the NRC is revising the effective date of the revision to Amendment No. 8 of CoC 1014 to February 16, 2016,180 days from August 18, 2015, thereby providing more time for the general licensee to prepare the necessary paperwork pursuant to 10 CFR 72.212 before this revision becomes effective. Because this revision will supersede Amendment No. 8 in its entirety, the general licensee will have to be in compliance with 10 CFR 72.212 once this revision becomes effective.

IV. Voluntary Consensus Standards

The National Technology Transfer and Advancement Act of 1995 (Pub. L. 104-113) requires that Federal agencies use technical standards that are developed or adopted by voluntary consensus standards bodies unless the use of such a standard is inconsistent with applicable law or otherwise impractical. In this final rule, the NRC will revise the Holtec International HI-STORM 100 Cask System design listing in 10 CFR 72.214. This action does not constitute the establishment of a standard that contains generally applicable requirements.

V. Agreement State Compatibility

Under the “Policy Statement on Adequacy and Compatibility of Agreement State Programs” approved by the Commission on June 30, 1997, and published in the Federal Register on September 3, 1997 (62 FR 46517), this final rule is classified as Compatibility Category “NRC.” Compatibility is not required for Category “NRC” regulations. The NRC program elements in this category are those that relate directly to areas of regulation reserved to the NRC by the Atomic Energy Act of 1954, as amended, or the provisions of 10 CFR. Although an Agreement State may not adopt program elements reserved to the NRC, it may wish to inform its licensees of certain requirements via a mechanism that is consistent with the particular State's administrative procedure laws, but does not confer regulatory authority on the State.

VI. Plain Writing

The Plain Writing Act of 2010 (Pub. L. 111-274), requires Federal agencies to write documents in a clear, concise, and well-organized manner. The NRC has written this document to be consistent with the Plain Writing Act as well as the Presidential Memorandum “Plain Language in Government Writing,” published June 10, 1998 (63 FR 31883).

VII. Environmental Assessment and Finding of No Significant Environmental Impact

A. The Action

The action is to amend 10 CFR 72.214 to revise the Holtec International HI-STORM 100 Cask System design listing within the “List of approved spent fuel storage casks” to revise Amendment No. 8 (effective May 2, 2012, as corrected on November 16, 2012), of CoC No. 1014 by adding Amendment No. 8, Revision 1. Under the National Environmental Policy Act of 1969, as amended, and the NRC's regulations in subpart A of 10 CFR part 51, “Environmental Protection Regulations for Domestic Licensing and Related Regulatory Functions,” the NRC has determined that this rule, if adopted, would not be a major Federal action significantly affecting the quality of the human environment and, therefore, an environmental impact statement is not required. The NRC has made a finding of no significant impact on the basis of this environmental assessment.

B. The Need for the Action

This final rule revises an amendment of the CoC for the Holtec International HI-STORM 100 Cask System design within the list of approved spent fuel storage casks that power reactor licensees can use to store spent fuel at reactor sites under a general license. Specifically, Amendment No. 8, Revision 1, changes burnup/cooling time limits for thimble plug devices, changes Metamic-HT material testing requirements, changes Metamic-HT material minimum guaranteed values, and updates fuel definitions to allow boiling water reactor fuel affected by certain corrosion mechanisms within specific guidelines to be classified as undamaged fuel.

C. Environmental Impacts of the Action

On July 18, 1990 (55 FR 29181), the NRC issued an amendment to 10 CFR part 72 to provide for the storage of spent fuel under a general license in cask designs approved by the NRC. The potential environmental impact of using NRC-approved storage casks was initially analyzed in the environmental assessment for the 1990 final rule. The environmental assessment for this CoC addition tiers off of the environmental assessment for the July 18, 1990, final rule. Tiering on past environmental assessments is a standard process under the National Environmental Policy Act.

The Holtec International HI-STORM 100 Cask System is designed to mitigate the effects of design basis accidents that could occur during storage. Design basis accidents account for human-induced events and the most severe natural phenomena reported for the site and surrounding area. Postulated accidents analyzed for an independent spent fuel storage installation (ISFSI), the type of facility at which a holder of a power reactor operating license would store spent fuel in casks in accordance with 10 CFR part 72, include tornado winds and tornado-generated missiles, a design basis earthquake, a design basis flood, an accidental cask drop, lightning effects, fire, explosions, and other incidents.

Considering the specific design requirements for each accident condition, the design of the cask would prevent loss of containment, shielding, and criticality control. If there is no loss of containment, shielding, or criticality control, the environmental impacts would not be significant. This revision does not reflect a significant change in design or fabrication of the cask. In addition, because there are no significant design or production process changes, any resulting occupational exposures or offsite dose rates from the implementation of Amendment No. 8, Revision 1, would remain well within the 10 CFR part 20 limits. Therefore, the proposed CoC changes will not result in either radiological or non-radiological environmental impacts that significantly differ from the environmental impacts evaluated in the environmental assessment supporting the July 18, 1990, final rule. There will be no significant change in the types or amounts of any effluent released, no significant increase in individual or cumulative radiation exposures, and no significant increase in the potential for or consequences from radiological accidents. The NRC staff documented its safety findings in the SER for this revision.

D. Alternative to the Action

The alternative to this action is to deny approval of the changes in Amendment No. 8, Revision 1, and terminate the final rule. Consequently, any 10 CFR part 72 general licensee that seeks to load SNF into the Holtec International HI-STORM 100 Cask System in accordance with the changes described in proposed Amendment No. 8, Revision 1, would have to request an exemption from the requirements of 10 CFR 72.212 and 72.214. Under this alternative, interested licensees would have to prepare, and the NRC would have to review, a separate exemption request, thereby increasing the administrative burden on the NRC and the cost to each licensee. Therefore, the environmental impacts would be the same or less than the action.

E. Alternative Use of Resources

Approval of Amendment No. 8, Revision 1, of CoC No. 1014 would result in no irreversible commitments of resources.

F. Agencies and Persons Contacted

No agencies or persons outside the NRC were contacted in connection with the preparation of this environmental assessment.

G. Finding of No Significant Impact

The environmental impacts of the action have been reviewed under the requirements in 10 CFR part 51. Based on the foregoing environmental assessment, the NRC concludes that this final rule entitled, “List of Approved Spent Fuel Storage Casks: Holtec International HI-STORM 100 Cask System, Certificate of Compliance No. 1014, Amendment No. 8, Revision 1,” will not have a significant effect on the human environment. Therefore, the NRC has determined that an environmental impact statement is not necessary for this final rule.

VIII. Paperwork Reduction Act Statement

This rule does not contain any information collection requirements and, therefore, is not subject to the requirements of the Paperwork Reduction Act of 1995 (44 U.S.C. 3501 et seq.).

Public Protection Notification

The NRC may not conduct or sponsor, and a person is not required to respond to, a request for information or an information collection requirement unless the requesting document displays a current valid Office of Management and Budget control number.

IX. Regulatory Analysis

On July 18, 1990 (55 FR 29181), the NRC issued an amendment to 10 CFR part 72 to provide for the storage of SNF under a general license in cask designs approved by the NRC. Any nuclear power reactor licensee can use NRC-approved cask designs to store SNF if it notifies the NRC in advance, the spent fuel is stored under the conditions specified in the cask's CoC, and the conditions of the general license are met. A list of NRC-approved cask designs is contained in 10 CFR 72.214. On May 1, 2000 (65 FR 25241), the NRC issued an amendment to 10 CFR part 72 that approved the Holtec International HI-STORM 100 Cask System design by adding it to the list of NRC-approved cask designs in 10 CFR 72.214.

On August 21, 2013, and as supplemented on December 20, 2013, and February 28, 2014, Holtec International submitted a revision request for the HI-STORM 100 Cask System, CoC No. 1014, Amendment No. 8, as described in Section II, “Discussion of Changes,” of this document.

The alternative to this action is to withhold approval of the changes requested in Amendment No. 8, Revision 1, and require any 10 CFR part 72 general licensee seeking to load SNF into the Holtec International HI-STORM 100 Cask System under the changes described in Amendment No. 8, Revision 1, to request an exemption from the requirements of 10 CFR 72.212 and 72.214. Under this alternative, each interested 10 CFR part 72 licensee would have to prepare, and the NRC would have to review, a separate exemption request, thereby increasing the administrative burden on the NRC and the costs to each affected licensee.

Approval of this final rule is consistent with previous NRC actions. Further, as documented in the SER and the EA, the final rule will have no adverse effect on public health and safety or the environment. This final rule has no significant identifiable impact or benefit on other Government agencies. Based on this regulatory analysis, the NRC concludes that the requirements of the final rule are commensurate with the NRC's responsibilities for public health and safety and the common defense and security. No other available alternative is believed to be as satisfactory, and therefore, this action is recommended.

X. Regulatory Flexibility Certification

Under the Regulatory Flexibility Act of 1980 (5 U.S.C. 605(b)), the NRC certifies that this rule will not, if issued, have a significant economic impact on a substantial number of small entities. This final rule affects only nuclear power plant licensees and Holtec International. These entities do not fall within the scope of the definition of small entities set forth in the Regulatory Flexibility Act or the size standards established by the NRC (10 CFR 2.810).

XI. Backfitting and Issue Finality

For the reasons set forth below, the NRC has determined that the backfit rule (10 CFR 72.62) does not apply to this final rule. Therefore, a backfit analysis is not required. This final rule revises CoC No. 1014 for the Holtec International HI-STORM 100 Cask System, as currently listed in 10 CFR 72.214, “List of approved spent fuel storage casks.” Amendment No. 8, Revision 1, changes burnup/cooling time limits for thimble plug devices, changes Metamic-HT material testing requirements, changes Metamic-HT material minimum guaranteed values, and updates fuel definitions to allow boiling water reactor fuel affected by certain corrosion mechanisms within specific guidelines to be classified as undamaged fuel.

At the time the application was submitted, Holtec International indicated that no casks had been manufactured under this revision, but as of publication of the direct final rule, casks had been manufactured and delivered to a general licensee. Although Holtec International has manufactured some casks under the existing CoC No. 1014, Amendment No. 8 that is being revised by this final rule, Holtec International, as the vendor, is not subject to backfitting protection under 10 CFR 72.62. Moreover, Holtec International requested the change and has requested to apply it to the existing casks manufactured under Amendment No. 8. Therefore, even if the vendor were deemed to be an entity protected from backfitting, this request represents a voluntary change and is not backfitting for Holtec International.

Under 10 CFR 72.62, general licensees are entities that are protected from backfitting, and in this instance, Holtec International has provided casks under CoC No. 1014, Amendment No. 8, to one general licensee. General licensees are required, pursuant to 10 CFR 72.212, to ensure that each cask conforms to the terms, conditions, and specifications of a CoC, and that each cask can be safely used at the specific site in question. Because the casks purchased and delivered under CoC No. 1014 Amendment No. 8, now must be evaluated under 10 CFR 72.212 consistent with the revisions in CoC No. 1014 Amendment 8, Revision 1, this change in the evaluation method and criteria constitutes a change in a procedure required to operate an ISFSI and, therefore, would constitute backfitting under 10 CFR 72.62(a)(2). However, in this instance, the general licensee voluntarily indicated its willingness to comply with the revised CoC, as long as the general licensee is provided adequate time to implement the revised CoC (see ADAMS No. ML15170A439). This final rule accommodates that request by extending the effective date for the final rule to February 16, 2016, 180 days from August 18, 2015. Therefore, although the general licensee is an entity protected from backfitting, this request represents a voluntary change and is not backfitting for this general licensee.

In addition, the changes in CoC No. 1014, Amendment No. 8, Revision 1 do not apply to casks which were manufactured to other amendments of CoC No. 1014, and, therefore, have no effect on current ISFSI licensees using casks which were manufactured to other amendments of CoC No. 1014. For these reasons, NRC approval of CoC No. 1014, Amendment No. 8, Revision 1, does not constitute backfitting for users of the HI-STORM 100 Cask System which were manufactured to other amendments of CoC No. 1014, under 10 CFR 72.62, 10 CFR 50.109(a)(1), or the issue finality provisions applicable to combined licenses in 10 CFR part 52.

For the reasons set forth above, no backfit analysis or additional documentation addressing the issue finality criteria in 10 CFR part 52 has been prepared by the NRC.

XII. Congressional Review Act

In accordance with the Congressional Review Act of 1996 (5 U.S.C. 801-808), the NRC has determined that this action is not a rule as defined in the Congressional Review Act.

XIII. Availability of Documents

The documents identified in the following table are available to interested persons through one or more of the following methods, as indicated.

Document | ADAMS Accession No.
CoC No. 1014, Amendment No. 8, Revision 1 | ML14262A478
Safety Evaluation Report | ML14262A476
Technical Specifications, Appendix A | ML14262A480
Technical Specifications, Appendix B | ML14262A479
Application (portions are non-public/proprietary) | ML13235A082
December 20, 2013, Application Supplement | ML14009A271
February 28, 2014, Application Supplement | ML14064A344

The NRC may post materials related to this document, including public comments, on the Federal Rulemaking Web site at http://www.regulations.gov under Docket ID NRC-2014-0233. The Federal Rulemaking Web site allows you to receive alerts when changes or additions occur in a docket folder. To subscribe: (1) Navigate to the docket folder (NRC-2014-0233); (2) click the “Sign up for Email Alerts” link; and (3) enter your email address and select how frequently you would like to receive emails (daily, weekly, or monthly).

List of Subjects in 10 CFR Part 72

Administrative practice and procedure, Hazardous waste, Indians, Intergovernmental relations, Nuclear energy, Penalties, Radiation protection, Reporting and recordkeeping requirements, Security measures, Whistleblowing.

For the reasons set out in the preamble and under the authority of the Atomic Energy Act of 1954, as amended; the Energy Reorganization Act of 1974, as amended; and 5 U.S.C. 552 and 553, the NRC is adopting the following amendments to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance No. 1014 is revised to read as follows:

§ 72.214 List of approved spent fuel storage casks.

* * * * *

Certificate Number: 1014.

Initial Certificate Effective Date: May 31, 2000.

Amendment Number 1 Effective Date: July 15, 2002.

Amendment Number 2 Effective Date: June 7, 2005.

Amendment Number 3 Effective Date: May 29, 2007.

Amendment Number 4 Effective Date: January 8, 2008.

Amendment Number 5 Effective Date: July 14, 2008.

Amendment Number 6 Effective Date: August 17, 2009.

Amendment Number 7 Effective Date: December 28, 2009.

Amendment Number 8 Effective Date: May 2, 2012, as corrected on November 16, 2012 (ADAMS Accession No. ML12213A170); superseded by Revision 1 Effective Date: February 16, 2016.

Amendment Number 8, Revision 1 Effective Date: February 16, 2016.

Amendment Number 9 Effective Date: March 11, 2014.

SAR Submitted by: Holtec International.

SAR Title: Final Safety Analysis.

Report for the HI-STORM 100 Cask System.

Docket Number: 72-1014.

Certificate Expiration Date: May 31, 2020.

Model Number: HI-STORM 100.

* * * * *

Dated at Rockville, Maryland, this 4th day of August, 2015.
For the Nuclear Regulatory Commission.
Michael R. Johnson,
Acting Executive Director for Operation.

[FR Doc. 2015-20141 Filed 8-17-15; 8:45 am]

BILLING CODE 7590-01-P